DEPARTMENT OF EDUCATION

Office of Special Education and Rehabilitative Services, Overview Information, Special Education—Technical Assistance on State Data Collection—IDEA General Supervision Enhancement Grant; Notice Inviting Applications for New Awards for Fiscal Year (FY) 2005

Catalog of Federal Domestic Assistance (CFDA) Number: 84.373X.

Note: The Secretary is inviting applications under two separate funding priorities addressing data collected under Part B and Part C of the Individuals with Disabilities Education Act, as amended (IDEA). Applicants who are eligible for and wish to apply under both priorities must submit separate applications for each priority.

Priority A: Outcome Measures.

Focus Area One—Part B Outcome Indicators

Focus Area Two—Part C Outcome Indicators

Priority B: Assessment Data: Planning grants for the Development, Enhancement, or Redesign of a Comprehensive System of State Assessments (Including State Alternate Assessments), Standards, and Instructional Supports.

DATES: Applications Available: August 4, 2005.

Deadline for Transmittal of Applications: October 3, 2005.

Deadline for Intergovernmental Review: October 13, 2005.

Eligible Applicants:

Priority A: Outcome measures | State educational agencies (SEAs), Part C lead agencies (LAs), freely associated States (FAS), and, if endorsed by the SEA, LA, or FAS to apply and carry out the project on behalf of the SEA, LA, or FAS, local educational agencies (LEAs), public charter schools that are LEAs under State law, institutions of higher education (IHEs), tribes or tribal organizations, other public agencies, private nonprofit organizations, and for-profit organizations.
| Note: Applicants who received a grant under the General Supervision Enhancement Grant competition in FY 2004 (84.326X) are not eligible for funding under Priority A if they are proposing a project in the same focus area (Part B or Part C) as their 2004 grant.
Priority B: Assessment Data | State educational agencies (SEAs), freely associated States (FAS), and, if endorsed by the SEA or FAS to apply and carry out the project on behalf of the SEA or FAS, local educational agencies (LEAs), public charter schools that are LEAs under State law, institutions of higher education (IHEs), tribes or tribal organizations, other public agencies, private nonprofit organizations, and for-profit organizations.
| Note: Applicants who received a grant under the General Supervision Enhancement Grant Focus 1 competition in FY 2004 (84.326X) are also eligible for funding under Priority B in this competition.
| States and FAS are encouraged to form consortia or any other group of eligible parties that meet the requirements in 34 CFR 75.127 to 75.129 to apply under Priority B. A consortium is comprised of more than one State or FAS and could include States or FAS from the same geographic region, States or FAS with similar demographic characteristics, States or FAS with similar populations, States or FAS with similar geographic characteristics or other characteristics as determined by the States or FAS. The Secretary views the formation of consortia as an effective and efficient strategy to addressing the requirements of this priority.

Funding for Awards: These priorities are being supported with funds reserved under section 616 of the IDEA, Technical Assistance in State Data Collection.

| Estimated available funds | Maximum award | Estimated average size of awards | Estimated number of awards
Priority A: Outcome Measures | $4,970,000 | The Secretary does not intend to make awards for more than $375,000 for applications that address Focus Area One or Two and does not intend to and make awards for more than $750,000 for applications that address Focus Area One and Focus Area Two. | $325,000 for applications that address Focus Area One or Two, and $700,000 for applications that address Focus Area One and Two | 13
Priority B: Assessment Data | $4,475,450 | The Secretary does not intend to fund any applications in FY 2005 that propose a budget exceeding $200,000 for a State or FAS for a single budget period of 12 months unless the application involves a consortium, or any other group of eligible parties that meets the requirements of 34 CFR 75.127-75.129. The level of funding for a consortium, or any other group of eligible entities, will reflect the combined total that the eligible entities comprising the consortium, or group, would have received if they had applied separately. The Secretary does not intend to make more than one award to serve a State or FAS. | $150,000 unless the application involveds a consortium, or anhy other group of eligible parties that meets the requirements of 34 CFR 75.127-75.129 | 30

Note on Priority A:

Due to the importance of coordinating early childhood systems serving children aged birth through 5, the Secretary intends to allocate at least $2,250,000 for the funding of joint applications from SEAs and Part C LAs under Priority A that only address (a) that portion of Focus Area One related to children with disabilities served under section 619 of the IDEA and (b) Focus Area Two.

Note on Priority B:

Given a sufficient number of approved high quality applications from consortia, the Department intends to fund at least six consortia projects under Priority B.

Note: The Secretary is not bound by any estimates in this notice and recognizes that funding of consortia will significantly reduce the number of awards.

Project Period: Up to 12 months.

Full Text of Announcement

I. Funding Opportunity Description

Purpose of Program: Under section 616(i)(2) of IDEA, awards may be made to provide technical assistance to improve the capacity of States to meet data collection requirements.

Priorities: We are establishing these priorities for the FY 2005 grant competition only, in accordance with Section 437(d)(1) of the General Education Provisions Act (GEPA).

Absolute Priorities: For FY 2005 these priorities are absolute priorities. Under 34 CFR 75.105(c)(3), we consider only applications that meet these priorities.

These priorities are:

Priority A: Outcome Measures.

Focus Area One: Developing or enhancing Part B State outcome indicators and methods to collect and analyze Part B outcome indicator data.

Focus Area Two: Developing or enhancing Part C State outcome indicators and methods to collect and analyze Part C outcome indicator data.

Priority B: Assessment Data: Planning grants for the Development, Enhancement, or Redesign of a Comprehensive System of State Assessments (including State alternate assessments), Standards, and Instructional Supports.

Background: Section 616 of the IDEA requires the Department, and States, to establish and implement systems for monitoring implementation of and enforcing obligations under Parts B and C of the IDEA. Under section 616 of the IDEA, the Secretary must establish indicators in certain monitoring priority areas. States must develop State Performance Plans (SPPs), including targets for those indicators, and use those targets and indicators in annually reporting to the Secretary on the performance of the State. States must also use those targets and indicators to report annually to the public on the performance of each LEA in the State.

Background of Priority A: The cornerstone of any accountability system is the development of outcome indicators, against which progress can be measured. State performance reports, self-assessments, and other extant data show that most States and State LAs as defined under Part C of the IDEA [Section 635(a)(10)], as well as their LEAs and Early Intervention Service programs, have not developed outcome indicators for children with disabilities served under Part B and Part C of IDEA or methods to collect and analyze Part B and Part C outcome indicator data, especially for infants and toddlers and their families and preschool children. Therefore, most States lack the capacity to collect sufficient data to determine the impact of early intervention and special education services.

Background of Priority B: One of the indicators being established by the Secretary under section 616 of the IDEA (on the priority area concerning the provision of a free appropriate public education in the least restrictive environment) is the participation and performance of children with disabilities on the State assessments required under the No Child Left Behind Act (NCLB). States are expected to report under the SPP and Annual Performance Reports (APR) on student performance on assessments using the same assessment data required under NCLB.

NCLB requires accountability for the academic achievement of all students. Under the law, every student and every group of students is expected to be working to meet State standards. For that very limited group of students with the most significant cognitive disabilities whose intellectual functioning is well below that of their peers, the Department's regulations allow States to develop alternate achievement standards that are aligned with the State's academic content standards and reflect professional judgment of the highest learning standards possible for those students. The Department's regulations permit the proficient and advanced scores of students assessed based on alternate achievement standards to be included in adequate yearly progress (AYP) calculations in the same manner as scores based on grade level achievement, subject to a cap of one percent of all students in the grades assessed, at the district and state level. See http://www.ed.gov/legislation/FedRegister/finrule/2003-4/120903a.pdf for more information.

On April 7, 2005, the Secretary announced the intent to provide additional flexibility that will allow States to develop modified achievement standards and use alternate assessments based on those modified achievement standards for some students with disabilities served under the IDEA. Following that, the Secretary announced on May 10, 2005, that eligible States could implement, for the 2004-05 year, adjustments to AYP calculations to reflect the need for alternate assessments based on modified achievement standards. Information about these interim options is available at http://www.ed.gov/policy/elsec/guid/raising/disab-options.html and http://www.ed.gov/policy/elsec/guid/raising/disab-acctplan.html.

All alternate assessments must be designed to generate valid data that can be used for AYP purposes under NCLB. These data also will be included in the SPPs and APRs relative to performance and participation of children with disabilities on State assessments under the IDEA.

Many States need support in developing, enhancing or redesigning their assessment systems to ensure that they meet the requirements of NCLB with regard to the assessment of children with disabilities.

Statement of Priority A—Outcome Measures.

This priority supports projects that address the needs of States for technical assistance to improve their capacity to meet Federal data collection requirements in one or both of two focus areas.

Focus Area One—Developing or enhancing Part B State outcome indicators and methods to collect and analyze Part B outcome indicator data.

This Focus Area supports the development or enhancement of Part B State outcome indicators and methods to collect and analyze Part B State outcome indicator data. Projects funded under this Focus Area must focus on improving the capacity of the State to provide information that could be used to determine one or both of the following:

(a) The impact of Part B preschool services (ages 3 through 5) on children with disabilities at the State and LEA level.

(b) Secondary, transition, and post-secondary education and employment outcomes at the State and LEA level. The indicators must provide data on child outcomes that could be used to assess the impact of the services.

Focus Area Two—Developing or enhancing Part C State outcome indicators and methods to collect and analyze Part C outcome indicator data.

This Focus Area supports the development or enhancement of Part C outcome indicators and methods to collect and analyze Part C State outcome indicator data. Projects funded under this Focus Area must focus on improving the capacity of the State to provide information that could be used to determine the following:

(a) The outcomes associated with infants and toddlers with disabilities and their families participating in State Part C programs.

(b) If the State has standards for early intervention outcomes, whether infants and toddlers with disabilities are meeting those standards.

(c) Trend data on outcomes associated with infants and toddlers with disabilities and their families and the extent to which infants and toddlers with disabilities are meeting State standards.

Statement of Priority B—Assessment Data: Planning grants for the Development, Enhancement, or Redesign of a Comprehensive System of State Assessments (including State alternate assessments), Standards, and Instructional Supports.

This priority supports planning grants for the development, enhancement, or redesign of a comprehensive system of State assessments (including State alternate assessments), standards, and instructional supports that address the needs of all children with disabilities and which may include specific activities to ensure coherence among components, such as: (1) Alternate assessments aligned with State content standards; (2) effective and appropriate accommodations that are consistent with daily instruction; (3) guidance to support IEP team decisions regarding student assessment; (4) professional development activities for both special education and regular education teachers; and (5) information for parents. Projects must help States ensure that they are designing strong systems of assessment and instruction to address the needs of children with disabilities, and that the assessments produce valid, reliable, and accurate measures of student performance and result in high quality data for use in evaluating the performance of schools, districts, and States.

Grantees must produce a final plan that includes clear and detailed descriptions of goals and objectives, information about participants, and plans for the design of data analysis or research; these components are integral to the success of implementing a coherent system of instruction and assessment for children with disabilities. The plan must also include a realistic timeline and resources needed to reach full implementation of the system design.

As part of this planning activity, States must work with experts in large-scale assessment and special education. The experts selected should represent the range of skills needed to develop assessments for children with disabilities that will meet the peer review guidelines for assessments published by the Department in the spring of 2004, which are available at http://www.ed.gov/policy/elsec/guid/saaprguidance.pdf. Skill sets for experts should include experience with one or more of the following: (1) Large scale assessment; (2) standards setting techniques; (3) assessment and measurement of children with disabilities; (4) design of professional development, accommodations and supports to teach grade level content to children with disabilities; (5) State collaborative activities to develop standards-based alternate assessments; (6) development of criterion referenced tests and instruments; (7) psychometric evaluation; (8) conducting studies of the technical adequacy of assessment instruments and/or test accommodations; (9) research in the area of alternate assessment and psychometrics; and (10) implementation of educational policy consistent with IDEA and NCLB.

States or FAS are encouraged to submit applications as a consortium (See 34 CFR 75.127-75.129). A consortium is comprised of more than one State or FAS and could include States or FAS from the same geographic region, States or FAS with similar demographic characteristics, States or FAS with similar populations, States or FAS with similar geographic characteristics or other characteristics as determined by the States or FAS. The Secretary views the formation of consortia as an effective and efficient strategy to addressing the requirements of this priority.

Additional Requirements for Priority A and Priority B:

All projects funded under Priority A or Priority B must—

(a) Budget for a two-day Project Directors' meeting in Washington, DC.

(b) If a project maintains a Web site, include relevant information and documents in a format that meets a government or industry-recognized standard for accessibility.

(c) Demonstrate in the application that the project meets, if applicable, the eligibility requirements in section III, 1.

Eligible Applicants

Waiver of Proposed Rulemaking: Under the Administrative Procedure Act (APA) (5 U.S.C. 553), the Department generally offers interested parties the opportunity to comment on a proposed priority. Section 437(d)(1) of the General Education Provisions Act (20 U.S.C. 1232(d)(1)), however, allows the Secretary to exempt from rulemaking requirements, regulations governing the first grant competition under a new or substantially revised program authority. This is the first grant competition for this program under sections 611 and 616 of the IDEA and therefore qualifies for this exemption. In order to ensure timely grant awards, the Secretary has decided to forego public comment on the absolute priorities under section 437(d)(1). These absolute priorities will apply to the FY 2005 grant competition only.

Program Authority: 20 U.S.C. 1411 and 1416.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Discretionary grants.

Funding for Awards: These priorities are being supported with funds reserved under section 616 of the IDEA, Technical Assistance in State Data Collection.

| Estimated available funds | Maximum award | Estimated average size of awards | Estimated number of awards
Priority A: Outcome measures | $4,970,000 | The Secretary does not intend to make awards for more than $375,000 for applications that address Focus Area One or Two and does not intend to make awards for more than $750,000 for applications that address Focus Area One and Focus Area Two | $325,000 for applications that address Focus Area One or Two and $700,000 for applicatons that address Focus Area One and Focus Area two | 13
Priority B: State Assessment Data | $4,475,450 | The Secretary does not intend to fund any applications in FY 2005 that propose a budget exceeding $200,000 for a State or FAS for a single budget period of 12 months unless the application involves a consortium, or any other group of eligible parties that meets the requirements of 34 CFR 75.127-75.129. The level of funding for a consortium, or any other group of eligible entities, will reflect the combined total that the eligible entities comprising the consortium, or group, would have received if they had applied separately. The Secretary does not intend to make more than one award to serve a State or FAS | $150,000 unless the application involves a consortium, or any other group of eligible parties that meets the requirements of 34 CFR 75.127-75.129 | 30

Note on Priority A: Due to the importance of coordinating early childhood systems serving children aged birth through 5, the Secretary intends to allocate at least $2,250,000 for the funding of joint applications from SEAs and Part C LAs under Priority A that only address (a) that portion of Focus Area One related to children with disabilities served under section 619 of the IDEA and (b) Focus Area Two.

Note on Priority B: Given a sufficient number of approved high quality applications from consortia, the Department intends to fund at least six consortia projects under Priority B.

Note: The Secretary is not bound by any estimates in this notice and recognizes that funding of consortia will significantly reduce the number of awards.

Project Period: Up to 12 months.

III. Eligibility Information

Eligible Applicants

Priority A: Outcome Measures | State educational agencies (SEAs), Part C lead agencies (LAs), freely associated States (FAS), and, if endorsed by Outcome the SEA, LA, or FAS to apply and carry out the project on Measures behalf of the SEA, LA, or FAS, local educational agencies (LEAs), public charter schools that are LEAs under State law, institutions of higher education (IHEs), tribes or tribal organizations, other public agencies, private nonprofit organizations, and for-profit organizations.
| Note: Applicants who received a grant under the General Supervision Enhancement Grant competition in FY 2004 (84.326X) are not eligible for funding under Priority A if they are proposing a project in the same focus area (Part B or Part C) as their 2004 grant.
Priority B: Assessment Data | State educational agencies (SEAs), freely associated States (FAS), and, if endorsed by the SEA or FAS to apply and Assessment carry out the project on behalf of the SEA or FAS, local Data educational agencies (LEAs), public charter schools that are LEAs under State law, institutions of higher education (IHEs), tribes or tribal organizations, other public agencies, private nonprofit organizations, and for-profit organizations.
| Note: Applicants who received a grant under the General Supervision Enhancement Grant Focus 1 competition in FY 2004 (84.326X) are also eligible for funding under Priority B in this competition.
| States and FAS are encouraged to form consortia or any other group of eligible parties that meet the requirements in 34 CFR 75.127 to 75.129 to apply under Priority B. A consortium is comprised of more than one State or FAS and could include States or FAS from the same geographic region, States or FAS with similar demographic characteristics, States or FAS with similar populations, States or FAS with similar geographic characteristics or other characteristics as determined by the States or FAS. The Secretary views the formation of consortia as an effective and efficient strategy to addressing the requirements of this priority.

2. Cost Sharing or Matching: This competition does not involve cost sharing or matching.

3. Other: General Requirements

(a) The projects funded under this competition must make positive efforts to employ and advance in employment qualified individuals with disabilities (see section 606 of the IDEA).

(b) Applicants and grant recipients funded under this competition must involve individuals with disabilities or parents of individuals with disabilities ages birth through 26 in planning, implementing, and evaluating the projects (see section 682(a)(1)(A) of the IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.373X.

Individuals with disabilities may obtain a copy of the application package in an alternative format (e.g., Braille, large print, audiotape, or computer diskette) by contacting the Grants and Contracts Services Team listed under FOR FURTHER INFORMATION CONTACT in section VII of this notice.

2. Content and Form of Application Submission:

(a) Additional requirements concerning the content of an application, together with the forms you must submit, are in the application package for this competition. Page Limit: The application narrative (Part III of the application) is where you, the applicant, address the selection criteria that reviewers use to evaluate your application. You must limit Part III to the equivalent of no more than 30 pages. To determine the number of pages or the equivalent, you must use the following standards:

• A “page” is 8.5″ × 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times: Applications Available: August 4, 2005.

Deadline for Transmittal of Applications: October 3, 2005.

Applications for grants under this competition may be submitted electronically using the Grants.gov Apply site (Grants.gov), or in paper format by mail or hand delivery. For information (including dates and times) about how to submit your application electronically, or by mail or hand delivery, please refer to section IV. 6. Other Submission Requirements in this notice.

Deadline for Intergovernmental Review: October 13, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2005. IDEA General Supervision Enhancement Grant—CFDA Number 84.373X is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for IDEA General Supervision Enhancement Grant at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this program [competition] to ensure that you submit your application in a timely manner to the Grants.gov system. You can also find the Education Submission Procedures pertaining to Grants.gov at http://e-Grants.ed.gov/help/GrantsgovSubmissionProcedures.pdf.

• To submit your application via Grants.gov, you must complete the steps in the Grants.gov registration process (see http://www.Grants.gov/GetStarted) and provide on your application the same D-U-N-S Number used with this registration. Please note that the registration process may take five or more business days to complete.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.373X), 400 Maryland Avenue, SW., Washington, DC 20202-4260;

or

By mail through a commercial carrier: U.S. Department of Education, Application Control Center “ Stop 4260, Attention: (CFDA Number 84.373X), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.373X), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 of EDGAR and are listed in the application package.

VI. Award Administration Information

1. Award Notices: If your application is successful, we notify your U.S. Representative and U.S. Senators and send you a Grant Award Notification (GAN). We may also notify you informally.

If your application is not evaluated or not selected for funding, we will notify you by mail.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary.

4. Performance Measures: To evaluate the overall success of projects awarded under this competition, the Department will determine at the end of each grant whether the State has been successful in planning for the development, enhancement, or redesign of a comprehensive system of State assessments (including State alternate assessments), standards, and instructional supports, and/or whether the grantee has developed or enhanced outcome indicators and methods to collect and analyze outcome indicator data. Grantees will be expected to report in final reports on the status of their planning for the development, enhancement, or redesign of a comprehensive system of State assessments (including State alternate assessments), standards, and instructional supports, and/or the indicators and outcome data. (34 CFR 75.590)

VII. Agency Contact

FOR FURTHER INFORMATION CONTACT: Larry Wexler, U.S. Department of Education, 400 Maryland Avenue, SW., room 4019, Potomac Center Plaza, Washington, DC 20202-2550. Telephone: (202) 245-7571.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

John H. Hager,
Assistant Secretary for Special Education and Rehabilitative Services.

[FR Doc. 05-15460 Filed 8-3-05; 8:45 am]

BILLING CODE 4000-01-P